DEPARTMENT OF TRANSPORTATION

Federal Aviation Administration

14 CFR Part 71

[Docket No. FAA-2012-1049; Airspace Docket No. 12-ANM-12]

RIN 2120-AA66

Amendment of Area Navigation Route Q-1; CA

AGENCY: Federal Aviation Administration (FAA), DOT.

ACTION: Final rule; technical amendment; correction.

SUMMARY: This action corrects a final rule; technical amendment, published by the FAA in the Federal Register on October 29, 2012, that adds two waypoints to the description of area navigation (RNAV) route Q-1. This action corrects the spelling of the TOCOS waypoint.

DATES: Effective date 0901 UTC, January 10, 2013. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Background

On October 29, 2012, the FAA published a final rule, technical amendment in the Federal Register amending the description of RNAV route Q-1 by adding two new waypoints to the route (77 FR 65461). Subsequent to publication, an error was discovered in the spelling of the TOCOS waypoint.

Area Navigation Routes are published in paragraph 6011 of FAA Order 7400.9W, dated August 8, 2012, and effective September 15, 2012, which is incorporated by reference in 14 CFR 71.1. The RNAV route listed in this document will be published subsequently in the Order.

Correction to Final Rule

Accordingly, pursuant to the authority delegated to me, the TACOS, CA, waypoint published in the Federal Register on October 29, 2012 (77 FR 65461) for RNAV route Q-1 is corrected as follows:

Paragraph 6011 United States Area Navigation Routes

* * * * *

Q-1 [Corrected]

On page 65461, second column, line 15, remove “TACOS” and insert “TOCOS.”

On page 65462, line 7, remove “TACOS” and insert “TOCOS.”

Issued in Washington, DC, on November 15, 2012.
Colby Abbott,
Acting Manager, Airspace Policy and ATC Procedures Group.

[FR Doc. 2012-28999 Filed 11-30-12; 8:45 am]

BILLING CODE 4910-13-P